DEPARTMENT OF THE INTERIOR

Bureau of Land Management

[212.LLAK941000 L14100000.ET0000; F-86061, F-16298, F-16299, F-16301, AA-61299, F-16304, F-85667, AA-61005, F-86064, F-85702, AA-66614]

Extension of the Opening Order in Public Land Order No. 7899 and Addressing Pending Public Land Orders in Alaska

AGENCY: Bureau of Land Management, Interior.

ACTION: Amended opening order.

SUMMARY: For orderly management of the public lands subject to Public Land Order (PLO) 7899, published on Jan. 19, 2021 and extended by 60 days on Feb. 18, 2021, the lands described therein shall not be opened until April 16, 2023. This notice also clarifies that the BLM has not published opening orders for PLOs 7900, 7901, 7902, and 7903 and therefore they have no effective date. These Orders will be included in the process described below for PLO 7899.

DATE: This Order takes effect on April 16, 2021.

FOR FURTHER INFORMATION CONTACT: David V. Mushovic, Bureau of Land Management (BLM) Alaska State Office, 222 West Seventh Avenue, Mailstop #13, Anchorage, AK 99513-7504; telephone: 907-271-4682; or email: dmushovi@blm.gov. People who use a telecommunications device for the deaf (TDD) may call the Federal Relay Service (FRS) at 1-800-877-8339 to contact Mr. Mushovic during normal business hours. The FRS is available 24 hours a day, 7 days a week, to leave a message or question. You will receive a reply during normal business hours.

SUPPLEMENTARY INFORMATION: PLO 7899 was signed on Jan. 11, 2021, and published in the Federal Register on Jan. 19, 2021. The opening order was extended by 60 days on Feb. 18, 2021, for the orderly management of the public lands. PLOs 7900, 7901, 7902, and 7903 were signed on Jan. 15 and 16, 2021, but have not been published in the Federal Register and therefore do not have an opening date. After signature of these PLOs in January 2021, the BLM identified defects in the PLOs, including, but not limited to: Failure to secure consent from the Department of Defense with regard to lands withdrawn for defense purposes as required by Section 204(i) of the Federal Land Policy and Management Act (FLPMA) (43 U.S.C. 1714(i)); insufficient analysis under the National Environmental Policy Act, including failure to adequately analyze potential impacts on subsistence hunting and fishing, and reliance on outdated data in environmental impact statements prepared in 2006 and 2007; failure to comply with Section 106 of the National Historic Preservation Act; and possible failure to adequately evaluate impacts under Section 7 of the Endangered Species Act. During the two-year period after publication of this Federal Register Notice, the BLM will address comments, undertake additional analysis, complete necessary consultation, and correct defects in the PLOs. The BLM will publish a notice of intent to begin this process within 60 days of the publication of this notice.

For the orderly administration of the public lands and in accordance with 43 CFR 2091.6, this Order amends the opening order contained in Paragraph 3 of PLO 7899 (86 FR 5236) as follows:

At 8 a.m. Alaska Time on April 16, 2023, the lands described in paragraph 1 of PLO 7899, (86 FR 5236) shall be open to all forms of appropriation under the general public land laws, including location and entry under the mining laws, leasing under the Mineral Leasing Act of February 25, 1920, as amended, subject to valid existing rights, the provisions of existing withdrawals, other segregations of record, and the requirements of applicable law. All valid applications received at or prior to 8 a.m. Alaska Time on April 16, 2023, shall be considered as simultaneously filed at that time. Those received thereafter shall be considered in the order of filing. Appropriation of any of the lands referenced in Paragraph 1 of PLO 7899, (86 FR 5236) under the general mining laws prior to the date and time of revocation remain unauthorized. Any such attempted appropriation, including attempted adverse possession under 30 U.S.C. 38, shall vest no rights against the United States. State law governs acts required to establish a location and to initiate a right of possession where not in conflict with Federal law. The BLM will not intervene in disputes between rival locators over possessory rights since Congress has provided for such determinations in local courts.

Laura Daniel-Davis,
Principal Deputy Assistant Secretary, Land and Minerals Management.

[FR Doc. 2021-07794 Filed 4-15-21; 8:45 am]

BILLING CODE 4310-JA-P